DEPARTMENT OF THE INTERIOR

National Park Service

National Preservation Technology and Training Board: Meeting

AGENCY: National Park Service, Interior.

ACTION: Notice.

Notice is hereby given in accordance with the Federal Advisory Committee Act, 5 U.S.C. Appendix (1988), that the National Preservation Technology and Training Board will meet on April 9 and 10, 2002, in Washington, DC.

The Board was established by Congress to provide leadership, policy advice, and professional oversight to the National Center for Preservation Technology and Training (NCPTT), as required under the National Historic Preservation Act of 1966, as amended (16 U.S.C. 470).

The Board will meet in Conference Room A of the American Geophysical Union Building, 2000 Florida Avenue NW, Washington, DC 20009, telephone (202) 462-6900. Tuesday, April 9, the meeting will start at 1:00 p.m. and end no later than 5:00 p.m. Matters to be discussed will include NPS updates on FY03 budget and administration issues, NCPTT issues and work plan, reports from partners, and re-inventing the board’s relationship to NCPTT. Wednesday, April 10, the meeting will start at 9:00 a.m. and end no later than 4:30 p.m. Matters to be discussed will include a strategic planning exercise based on the November 2001 forum, the November 2001 meeting in Natchitoches, LA, developing a business plan, and new business.

The meeting will be open to the public. Facilities and space for accommodating members of the public are limited, however, and persons will be accommodated on a first-come, first-serve basis. Any member of the public may file a written statement concerning the matters to be discussed.

Persons wishing more information concerning this meeting, or who wish to submit written statements, may contact Mr. E. Blaine Cliver, Chief, HABS/HAER/HALS, National Park Service, 1849 C Street NW-300 NC, Washington, DC 20240 (mailing address), or HABS/HAER/HALS, National Park Service, 800 North Capitol Street NW, Suite 300, Washington, DC 20001 (commercial delivery address), telephone (202) 343-1024. Increased security in the Washington, DC, area may cause delays in the delivery of U.S. Mail to Government offices. In addition to mail or commercial delivery, please fax a copy of the written submission to Mr. E. Blaine Cliver, Chief, HABS/HAER/HALS, at (202) 343-9624.

Due to an unanticipated administrative delay in reviewing this notice within the National Park Service, it could not be published at least 15 days prior to the meeting dates. The National Park Service regrets this error, but is compelled to hold the meeting as scheduled because of the significant sacrifice re-scheduling would require of board members who have adjusted their schedules to accommodate the proposed meeting dates and the high level of anticipation by all parties who will be affected by the outcome of the board's actions. Since there has been advance notice to the board members about this meeting, the National Park Service believes that the public interest will not be adversely affected by the less-than-15-days advance notice in the Federal Register.

Meeting minutes of the meeting will be available for public inspection about eight weeks after the meeting at the office of HABS/HAER/HALS, National Park Service, 800 North Capitol Street NW, Suite 300, Washington, DC.

de Teel Patterson Tiller,
Deputy Associate Director, Historic Preservation, Recreation and Partnerships and Acting Manager, National Center for Preservation Technology and Training.

[FR Doc. 02-8545 Filed 4-5-02; 1:46 pm]

BILLING CODE 4310-70-S